ENVIRONMENTAL PROTECTION AGENCY

[FRL-9157-1]

National Environmental Justice Advisory Council; Notification of Public Teleconference and Public Comment

AGENCY: Environmental Protection Agency.

ACTION: Notification of Public Teleconference Meeting and Public Comment.

SUMMARY: Pursuant to the Federal Advisory Committee Act (FACA), Public Law 92-463, the U.S. Environmental Protection Agency (EPA) hereby provides notice that the National Environmental Justice Advisory Council (NEJAC) will host a public teleconference meeting on Tuesday, June 15, 2010, starting at 1 p.m. Eastern Time. The primary purpose of the teleconference meeting is to discuss EPA's activities related to the Gulf of Mexico oil spill, including cleanup and recovery actions, and the impacts of the spill on coastal environmental justice communities. There will be a public comment period from 2:30 p.m. to 4 p.m. Eastern Time. Members of the public are invited to provide comments relevant to the topic of this teleconference meeting. Specifically, the NEJAC is seeking input about: (1) The scope of disaster preparedness efforts within communities, (2) how should EPA engage other Federal, State, Tribal, and local governments to ensure that coastal planning and protection efforts are a high priority, and (3) how should EPA engage communities around the environmental cleanup and recovery actions.

Registration

Registration is required. A finite number of telephone lines will be reserved for the call. Full capacity is anticipated, so you are highly encouraged to register early by:

• E-mail: Send an e-mail to NEJACJune2010meeting@AlwaysPursuingExcellence.com with “Register for the June NEJAC Teleconference” in the subject line. Please provide your name, organization, address, e-mail and telephone number for future follow-up as necessary.

• Phone or Fax: Send a fax (please print), or leave a voice message, with your name, organization, address, e-mail and telephone number to 877-773-1489.

Registration will close Friday, June 11, 2010 at Noon Eastern Time. For additional information about registering to attend the meeting or to provide public comment, please see SUPPLEMENTARY INFORMATION.

DATES: The NEJAC teleconference meeting on June 15, 2010 will begin promptly at 1 p.m. Eastern Time.

FOR FURTHER INFORMATION CONTACT: APEX Direct Inc., by phone or fax at 877-773-1489, or by e-mail at NEJACJune2010meeting@AlwaysPursuingExcellence.com. Please provide your name, organization, and telephone number for follow-up as necessary. Non-English speaking attendees wishing to arrange for a foreign language interpreter also may make appropriate arrangements using these numbers.

Questions or correspondence concerning the teleconference meeting should be directed to Mr. Aaron Bell, U.S. Environmental Protection Agency, at 1200 Pennsylvania Avenue, NW., (MC2201A), Washington, DC 20460; by telephone at (202) 564-1044, via e-mail at Bell.Aaron@epa.gov; or by fax at (202) 564-1624. Additional information about this meeting and the NEJAC is available at the Internet Web site: http://www.epa.gov/environmentaljustice/nejac/meetings.html.

SUPPLEMENTARY INFORMATION: The Charter of the NEJAC states that the advisory committee shall provide independent advice to the Administrator on areas that may include, among other things, “advice about broad, cross-cutting issues related to environmental justice, including environment-related strategic, scientific, technological, regulatory and economic issues related to environmental justice. The June 15, 2010, teleconference meeting shall be used to discuss and receive comment about EPA activities related to the Gulf of Mexico oil spill, including cleanup and recovery actions, and the impacts of the spill on environmental justice communities along the Gulf Coast.

A. Public Comment: The NEJAC conducts public comment as a way of gathering stakeholder input which serves to inform the deliberations of the Council. Members of the public who wish to provide public comment must pre-register and sign up for comment by Noon Eastern Time Friday, June 11, 2010. Individuals or groups making remarks during the public comment period will be limited to a total time of five minutes each. Only one representative of a community, organization, or group will be allowed to speak. Written comments also may be submitted for the record. The suggested format for individuals providing public comments is as follows: Name of Speaker, Name of Organization/Community, Address/Telephone/E-mail, Description of Concern and its Relationship to a Specific Policy Issue(s), and Recommendations or desired outcome. Written comments received by Noon Eastern Time Monday, June 14, 2010, will be included in the materials distributed to the members of the NEJAC. Written comments received after that time will be provided to the NEJAC as logistics allow. All written comments should be sent to EPA's support contractor, APEX Direct, Inc., via e-mail or fax as listed in the CONTACT section above.

B. Information about Services for Individuals with Disabilities: For information about access or services for individuals with disabilities, please contact EPA's support contractor, APEX Direct, Inc., listed in the FOR FURTHER INFORMATION CONTACT section above. To request special accommodations for a disability, please contact EPA's support contractor, APEX Direct, Inc., at least 10 days prior to the call, to allow EPA sufficient time to process your request. All requests should be sent to the address, e-mail, or fax number listed in the FOR FURTHER INFORMATION CONTACT section above.

Dated: May 25, 2010.
Victoria Robinson,
Designated Federal Officer, National Environmental Justice Advisory Council.

[FR Doc. 2010-13091 Filed 5-28-10; 8:45 am]

BILLING CODE 6560-50-P